DEPARTMENT OF JUSTICE

Antitrust Division

Notice Pursuant to the National Cooperative Research and Production Act of 1993—Cooperative Research Group Permian Basin Consortium—Phase III

Notice is hereby given that, on January 10, 2024, pursuant to section 6(a) of the National Cooperative Research and Production Act of 1993, 15 U.S.C. 4301 et seq. (“the Act”), Cooperative Research Group Permian Basin Consortium—Phase III has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Marathon Oil Company, Houston, TX; and Diamondback E&P LLC, Midland, TX.

The general area of Permian Basin Consortium—Phase III's planned activities will involve building on research conducted in Phases 1 and 2 of the consortium, with continued analysis of deformation and mechanical stratigraphy in Permian strata exposed in and around the Permian Basin of Texas and New Mexico. Planned activity involves intensive data collection and quantitative analysis of systematic fracture networks and associated deformation related to lithostratigraphy and mechanical stratigraphy. This work will develop datasets and predictive relationships based on outcrop and core, that can be used to inform predictive models of fracturing in the Permian Basin. Subsurface investigations include numerical geomechanical modeling of deformation related to tectonic activity and hydraulic fracturing within productive and potentially productive portions of the Permian Basin.

Suzanne Morris,
Deputy Director Civil Enforcement Operations, Antitrust Division.

[FR Doc. 2024-02279 Filed 2-5-24; 8:45 am]

BILLING CODE P